DEPARTMENT OF DEFENSE

Office of the Secretary

[Docket ID DOD-2018-OS-0015]

Proposed Collection; Comment Request

AGENCY: Office of the Under Secretary of Defense for Personnel and Readiness, DoD.

ACTION: Information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 21, 2018.

ADDRESSES: You may submit comments, identified by docket number and title, by any of the following methods:

• Federal eRulemaking Portal: http://www.regulations.gov. Follow the instructions for submitting comments.

• Mail: Department of Defense, Office of the Chief Management Officer, Directorate for Oversight and Compliance, 4800 Mark Center Drive, Mailbox #24, Suite 08D09B, Alexandria, VA 22350-1700.

Instructions: All submissions received must include the agency name, docket number, and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Manpower Data Center (DMDC) at: ATTN: Joint Personnel Adjudication System (JPAS), Defense Manpower Data Center (DMDC), Suite 04E25, 4800 Mark Center Drive, Alexandria, VA, 22350-3100, OR Fax: 571-372-1059.

SUPPLEMENTARY INFORMATION: Title; Associated Form; and OMB Number: Personnel Security System Access Request (PSSAR) Form; DD Form 2962-1, DD Form 2962-2; OMB Control Number 0704-0542.

Needs and Uses: The information collection requirement is necessary because Joint Personnel Adjudication System, Defense Information System for Security, Secure Web Fingerprint Transmission, and Defense Central Index of Investigations require personal data collection to facilitate the granting of access to the suite of DMDC systems to Security Managers for the purpose of the initiation, investigation and adjudication of information relevant to DoD security clearances and employment suitability determinations for active duty military, civilian employees and contractors requiring the aforementioned clearances. As a suite of Personnel Security Systems, they are the authoritative source for clearance information resulting in accesses determinations to sensitive/classified information and facilities.

Affected Public: Business or other for profit.

Annual Burden Hours: 7,408.

Number of Respondents: 22,225.

Responses per Respondent: 2.

Annual Responses: 44,450.

Average Burden per Response: 10 minutes.

Frequency: On occasion.

Respondents are Security Managers and Adjudicators at various levels who initiate investigations, verify information and update eligibility and access levels of military, civilian and contractor personnel nominated for access to sensitive/classified DoD information and suitability for employment. The PSSAR is the authoritative source to request, record, and identify what levels of access, roles, and permissions are needed to the suite of DMDC Personnel Security Systems for the purpose of performing functions such as outlined above.

Dated: March 19, 2018.
Aaron Siegel,
Alternate OSD Federal Register, Liaison Officer, Department of Defense.

[FR Doc. 2018-05841 Filed 3-21-18; 8:45 am]

BILLING CODE 5001-06-P